DEPARTMENT OF LABOR

Employment and Training Administration

[NAFTA—3866]

Furniture Crafters, Grants Pass, Oregon; Notice of Termination of Investigation

Pursuant to section 221 of the Trade Act of 1974, an investigation was initiated on April 24, 2000, in response to a worker petition which was filed by a company official on behalf of its workers at Furniture Crafters, Grants Pass, Oregon.

The petitioner has requested that the petition be withdrawn. Consequently, further investigation in this case would serve no purpose, and the investigation has been terminated.

Signed in Washington, DC this 9th day of June, 2000.
Grant D. Beale,
Program Manager, Division of Trade Adjustment Assistance.

[FR Doc. 00-16500 Filed 6-28-00; 8:45 am]

BILLING CODE 4510-30-M